U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on April 15, 2021 on “A Net Assessment of the CCP's Economic Ambitions, Plans, and Metrics of Future Success.”

DATES: The hearing is scheduled for Thursday, April 15, 2021, 9:30 a.m.

ADDRESSES: This hearing will be held with panelists and Commissioners participating in-person or online via videoconference. Members of the audience will be able to view a live webcast via the Commission's website at www.uscc.gov. Also, please check the Commission's website for possible changes to the hearing schedule. Reservations are not required to attend the hearing.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION: Background: This is the fourth public hearing the Commission will hold during its 2021 report cycle. The hearing will examine the Chinese Communist Party's economic ambitions, shifts in decisionmaking, and prospects for success. The opening panel will discuss the current political and economic conditions and policy decisions in China, with an assessment of the risks and metrics shaping the CCP's policy decisions. The second panel will examine the tools, trends, and techniques observed in China's economic development heading into the 14th Five Year Plan (2021-2025) and beyond. The third panel will examine certain emerging technologies and sectors that the CCP has identified as key enablers for growth and where the CCP has focused efforts on expanding global market position, as well as the implications for U.S. businesses and workers. The fourth panel will examine China's rapid expansion of the financial technology sector, mobile payment platforms, and big data collection, and the country's efforts to develop first-mover status on a sovereign digital currency.

The hearing will be co-chaired by Vice Chairman Robin Cleveland and Commissioner Michael Wessel. Any interested party may file a written statement by April 15, 2021 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: March 23, 2021.
Daniel W. Peck,
Executive Director, U.S.-China Economic and Security Review Commission.

[FR Doc. 2021-06557 Filed 3-30-21; 8:45 am]

BILLING CODE 1137-00-P